ENVIRONMENTAL PROTECTION AGENCY

[FRL-7401-2]

Meeting of the National Drinking Water Advisory Council Notice of Public Meeting

AGENCY: Environmental Protection Agency.

ACTION: Notice.

SUMMARY: Under Section 10(a)(2) of Public Law 92-423, “The Federal Advisory Committee Act,” notice is hereby given of a meeting of the National Drinking Water Advisory Council established under the Safe Drinking Water Act, as amended (42 U.S.C. 3300f et seq.). The Council will hear presentations and have discussions on topics important to the Environmental Protection Agency's national drinking water program, including, but not limited to: updates on the Ground Water and Radon rules; status reports from the NDWAC's working groups on Affordability and the Contaminant Candidate List; source water protection initiatives; and progress in implementing the Public Health Security and Bioterrorism Preparedness Response Act of 2002.

DATES: The Council meeting will be held on November 20, 2002, from 8:30 a.m. until 5:30 p.m. and November 21, 2002, from 8:30 a.m. until 1:00 p.m., Eastern Standard Time.

ADDRESSES: The meeting will be held at The Westin Philadelphia Hotel located at 99 South 17th Street, Philadelphia, Pennsylvania 19103 and are open to the public.

FOR FURTHER INFORMATION CONTACT: Members of the public that would like to attend the meeting, present an oral statement, or submit a written statement, should contact Brenda Johnson, Designated Federal Officer, National Drinking Water Advisory Council, by phone at 202-564-3791, by e-mail to johnson.brendap@epa.gov, or by regular mail to the U.S. Environmental Protection Agency, Office of Ground Water and Drinking Water (4601), 1200 Pennsylvania Avenue NW., Washington, D.C. 20460.

SUPPLEMENTARY INFORMATION: The Council encourages the public's input and will allocate one hour for this purpose. Oral statements will be limited to five minutes, and it is preferred that only one person present the statement on behalf of a group or organization. To ensure adequate time for public involvement, individuals or organizations interested in presenting an oral statement should notify the Council's Designated Federal Officer by telephone at (202) 564-3791 no later than November 13, 2002. Any person who wishes to file a written statement can do so before or after a Council meeting. Written statements received prior to the meeting will be distributed to all members of the Council before any final discussion or vote is completed. Any statements received after the meeting will become part of the permanent meeting file and will be forwarded to the Council members for their information.

Dated: October 23, 2002.
Cynthia C. Dougherty,
Director, Office of Ground Water and Drinking Water.

[FR Doc. 02-27498 Filed 10-28-02; 8:45 am]

BILLING CODE 6560-50-P